Title 3—

The President

Proclamation 7287 of April 7, 2000

National Volunteer Week, 2000

By the President of the United States of America

A Proclamation

Each year our Nation is blessed by the service of more than 100 million Americans who take time out of their busy lives to reach out to those in need. Volunteers come from every age group and walk of life, yet they share a common conviction: that by giving of themselves, they can bridge the divide between strangers, create stronger families, and build better communities.

National Volunteer Week offers us a chance to thank the many volunteers whose work and compassion add so much to the quality of our lives. It also gives those who have never volunteered the opportunity to learn more about the many organizations that would benefit from their time and talents. People who enjoy sports can volunteer at a Special Olympics event; those who love the arts can work as docents in a gallery or historic home; those who love to read can share that love through a literacy program.

Our success with the AmeriCorps program demonstrates the power and promise of community service in America. Since we passed the National and Community Service Trust Act in 1993, more than 150,000 young people have served in AmeriCorps. They have taught or mentored more than 4 million children; helped to immunize more than a million people; worked to build some 11,000 homes; and sparked a new spirit of community service across our Nation. In my proposed budget for fiscal 2001, I have included funding to reach our goal of 100,000 AmeriCorps members in service each year. I have also outlined a new AmeriCorps Reserves program that will allow us to call upon AmeriCorps alumni during times of special need, such as following natural disasters. The Corporation for National Service will commit $10 million to create a new “E-corps”—750 qualified AmeriCorps volunteers who will help to bring digital opportunity to communities by providing technical support to school computer systems, tutoring at Community Technology Centers, and offering technical training for careers in the information technology sector. Through a new Community Coaches program, we will place adults in 1,000 schools to help engage students in service programs that will connect them to the wider community. And through new Youth Empowerment Grants, we will reward social entrepreneurship among young people who are seeking solutions to problems such as youth violence and alienation.

Dr. Martin Luther King, Jr., reminded us that “everyone can be great because anyone can serve.” During National Volunteer Week, let us pause to thank all who have responded to that call to greatness, and let each of us make our own commitments to volunteer in our neighborhoods and communities.

NOW, THEREFORE, I, WILLIAM J. CLINTON, President of the United States of America, by virtue of the authority vested in me by the Constitution and laws of the United States, do hereby proclaim April 9 through April 15, 2000, as National Volunteer Week. I call upon all Americans to observe this week with appropriate programs, ceremonies, and activities to express appreciation to the volunteers among us for their commitment to service and to encourage the spirit of volunteerism in our families and communities.

IN WITNESS WHEREOF, I have hereunto set my hand this seventh day of April, in the year of our Lord two thousand, and of the Independence of the United States of America the two hundred and twenty-fourth.

wj

[FR Doc. 00-9207

Filed 4-10-00; 11:16 am]

Billing code 3195-01-P